ENVIRONMENTAL PROTECTION AGENCY

[FRL-7119-9]

Whitehouse Waste Oil Pits Superfund Site Notice of Proposed De Minimis Settlement

AGENCY: Environmental Protection Agency.

ACTION: Notice of proposed de minimis settlement.

SUMMARY: Under Section 122(g)(4) of the Comprehensive Environmental Response, Compensation and Liability Act (CERCLA), the Environmental Protection Agency (EPA) has offered a de minimis settlement under an Administrative Order on Consent (AOC) to settle claims for past and future response costs at the Whitehouse Waste Oil Pits Superfund Site (Site) located in Whitehouse, Duval County, Florida. Forty-two (42) parties have returned signature pages accepting EPA's settlement offer. EPA will consider public comments on the proposed settlement for thirty (30) days. EPA may withdraw from or modify the proposed settlement should such comments disclose facts or considerations which indicate the proposed settlement is inappropriate, improper, or inadequate. Copies of the proposed settlement are available from: Ms. Paula V. Batchelor, U.S. Environmental Protection Agency, Region IV, CERCLA Program Services Branch, Waste Management Division, 61 Forsyth Street, SW., Atlanta, Georgia 30303, (404) 562-8887.

Written comments may be submitted to Mr. Ray Strickland at the above address within 30 days of the date of publication.

Dated: November 28, 2001.
Franklin E. Hill,
Chief, CERCLA Program Services Branch, Waste Management Division.

[FR Doc. 01-31242 Filed 12-18-01; 8:45 am]

BILLING CODE 6560-50-P